DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq.), this notice announces that the Information Collection Request (ICR) abstracted below has been forwarded to the Office of Management and Budget (OMB) for approval of a new information collection activity. The ICR describes the nature of the information collection and the expected burden. A Notice of Proposed Rulemaking was published in the Federal Register on September 27, 2002, pages 61238-61240. Over 3,700 public comments were received in response to the publication, the response to which is included in the preamble of the final rule.

DATES: Comments must be submitted on or before September 10, 2003. A comment to OMB is most effective if OMB receives it within 30 days of publication.

FOR FURTHER INFORMATION CONTACT: Jerry Street on (202) 267-9895.

SUPPLEMENTARY INFORMATION:

Federal Aviation Administration (FAA)

Title: Reports by Carriers on Incidents Involving Animals During Air Transport.

Type of Request: New Collection.

OMB Control Number: 2120-xxxx.

Form(s): N/A.

Affected Public: A total of 30 transport air carriers.

Abstract: Congress mandated this rule as part of Public Law 106-810, to require air carriers to track and report incidents of loss, injury, or death of a pet during transport. The information gathered and reported by the air carriers will provide the public with valuable information when choosing an air carrier to use when traveling with a pet. Air carriers that transport pets will be the respondents.

Estimated Annual Burden Hours: An estimated 360 hours annually.

ADDRESSES: Send comments to the Office of Information and Regulatory Affairs, Office of Management and Budget, 725 17th Street, NW., Washington, DC 20503, Attention FAA Desk Officer. Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on August 5, 2003.
Judith D. Street,
FAA Information Collection Clearance Officer, Standards and Information Division, APF-100.

[FR Doc. 03-20410 Filed 8-8-03; 8:45 am]

BILLING CODE 4910-13-M